DEPARTMENT OF HEALTH AND HUMAN SERVICES

National Institutes of Health

Center for Scientific Review; Cancellation of Meeting

Notice is hereby given of the cancellation of the Center for Scientific Review Special Emphasis Panel, October 29, 2001, 11 am to October 29, 2001, 12 pm, Latham Hotel, 3000 M Street, NW., Washington, DC 20007-3701 which was published in the Federal Register on October 15, 2001, 66 FR 52441-52444.

The meeting is cancelled due to the applications being transferred to another meeting.

Dated: October 23, 2001.
LaVerne Y. Stringfield,
Director, Office of Federal Advisory Committee Policy.

[FR Doc. 01-27151 Filed 10-26-01; 8:45 am]

BILLING CODE 4140-01-M